DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Data Collection on Marine Protected and Managed Areas.

OMB Control Number: 0648-0449.

Form Number(s): NA.

Type of Request: Regular submission (request for extension and revision of a current information collection).

Number of Respondents: 100.

Average Hours per Response: 30 minutes.

Burden Hours: 50.

Needs and Uses: This request is for extension and revision of a current information collection. The inventory data form has been revised so that the average response time is significantly shorter.

Executive Order 13158 directs the Department of Commerce (DOC) and the Department of the Interior (DOI) to work with partners to strengthen the protection of U.S. oceans and coastal resources by developing a national system of marine protected areas (MPAs). These departments are working closely with state, territorial, local, and tribal governments, as well as other stakeholders, to identify and inventory the nation's existing MPAs. Toward this end, the DOC's National Oceanic and Atmospheric Administration (NOAA) and DOI have created the Marine Protected Areas Inventory, an online spatial database that provides detailed information on MPAs nationwide. The inventory stores data on over 1,600 sites, across different management programs and all levels of government. In order to keep this data resource current and accurate with the latest status and information on MPAs nationwide, the MPA Center has created an online site data form, posted at http://www.mpa.gov, that can be used to provide feedback regarding the accuracy of the MPA Inventory data and a mechanism to receive updates, additions or changes to existing database information. The online form can be used to identify new sites that should be added to the database or to provide clarification on the data stored in the existing version of the online MPA Inventory. An additional nomination checklist form is also posted at http://www.mpa.gov to collect information from eligible federal, state, territorial, local and tribal governments seeking to nominate their MPA to be part of the national system of MPAs. MPA programs (approximately five new each year) provide information on how their nominated sites meet the goals and objectives of the national system of MPAs.

Affected Public: State, local and tribal governments.

Frequency: One time and on occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to OIRA_Submission@omb.eop.gov.

Dated: December 13, 2011.
Gwellnar Banks,
Management Analyst, Office of the Chief Information Officer.

[FR Doc. 2011-32364 Filed 12-16-11; 8:45 am]

BILLING CODE 3510-NK-P